SECURITIES AND EXCHANGE COMMISSION

Proposed Collection; Comment Request

Upon Written Request, Copies Available From: Securities and Exchange Commission, Office of Investor Education and Advocacy, Washington, DC 20549-0213.

Extension:

Rule 17f-2(d); SEC File No. 270-36; OMB Control No. 3235-0028.

Notice is hereby given that pursuant to the Paperwork Reduction Act of 1995 (44 U.S.C. 3501 et seq.) the Securities and Exchange Commission (“Commission”) is soliciting comments on the existing collection of information provided for in Rule 17f-2(d) [17 CFR 240.17f-2(d)], under the Securities Exchange Act of 1934 (15 U.S.C. 78a et seq.) (“Act”). The Commission plans to submit this existing collection of information to the Office of Management and Budget for extension and approval.

Rule 17f-2(d) requires that records produced pursuant to the fingerprinting requirements of Section 17(f)(2) of the Act be maintained; permits the designated examining authorities of broker-dealers or members of exchanges, under certain circumstances, to store and maintain records required to be kept by this rule; and permits the required records to be maintained on microfilm. The general purpose for Rule 17f-2 is to: (i) Identify security risk personnel; (ii) provide criminal record information so that employers can make fully informed employment decisions; and (iii) deter persons with criminal records from seeking employment or association with covered entities. The rule enables the Commission or other examining authority to ascertain whether all required persons are being fingerprinted and whether proper procedures regarding fingerprint are being followed. Retention of these records for the term of employment of all personnel plus three years ensures that law enforcement officials will have easy access to fingerprint cards on a timely basis. This in turn acts as an effective deterrent to employee misconduct.

Approximately 5,300 respondents are subject to the recordkeeping requirements of the rule. Each respondent keeps approximately 60 new records per year, which takes approximately 2 minutes per record for the respondent to maintain, for an annual burden of approximately 2 hours (60 records times 2 minutes) per respondent or a total annual burden of approximately 10,300 hours (5,300 respondents times 2 hours) for all respondents. All records subject to the rule must be retained for the term of employment plus 3 years. In addition, we estimate the total cost to respondents is approximately $119,000.

The Commission may not conduct or sponsor a collection of information unless it displays a currently valid control number. No person shall be subject to any penalty for failing to comply with a collection of information subject to the PRA that does not display a valid Office of Management and Budget (OMB) control number.

Please direct your written comments to: Thomas Bayer, Director/Chief Information Officer, Securities and Exchange Commission, c/o Remi Pavlik-Simon, 6432 General Green Way, Alexandria, Virginia 22312 or send an e-mail to: PRA_Mailbox@sec.gov.

Dated: June 29, 2011.
Cathy H. Ahn,
Deputy Secretary.

[FR Doc. 2011-16764 Filed 7-5-11; 8:45 am]

BILLING CODE 8011-01-P